DEPARTMENT OF ENERGY

Federal Energy Regulatory Commission

Combined Notice of Filings #1

Take notice that the Commission received the following electric corporate filings:

Docket Numbers: EC16-134-000.

Applicants: Chaves County Solar, LLC, Live Oak Solar, LLC, Marshall Solar, LLC, River Bend Solar, LLC.

Description: Supplement to June 24, 2016 Application for Authorization Under FPA Section 203 of Chaves County Solar, LLC, et al.

Filed Date: 8/31/16.

Accession Number: 20160831-5164.

Comments Due: 5 p.m. ET 9/7/16.

Docket Numbers: EC16-174-000.

Applicants: Dynegy Inc., Elwood Energy LLC, J-POWER USA Generation, L.P.

Description: Joint Application for Authorization Disposition of Jurisdictional Assets and Purchase of Securities Under FPA Sections 203(a)(1) and 203(a)(2) of Elwood Energy LLC, Dynegy Inc. and J-POWER USA Generation, L.P.

Filed Date: 8/30/16.

Accession Number: 20160830-5276.

Comments Due: 5 p.m. ET 9/20/16.

Take notice that the Commission received the following electric rate filings:

Docket Numbers: ER15-2239-005.

Applicants: NextEra Energy Transmission West, LLC.

Description: Compliance filing: NextEra Energy Transmission West, LLC Compliance Filing to be effective 10/20/2015.

Filed Date: 8/30/16.

Accession Number: 20160830-5248.

Comments Due: 5 p.m. ET 9/20/16.

Docket Numbers: ER16-200-004.

Applicants: Duke Energy Indiana, LLC.

Description: Compliance filing: Supplemental Compliance Filing Reactive ER16-200 to be effective 1/1/2016.

Filed Date: 8/30/16.

Accession Number: 20160830-5265.

Comments Due: 5 p.m. ET 9/20/16.

Docket Numbers: ER16-1255-001.

Applicants: Antelope Big Sky Ranch LLC.

Description: Compliance filing: Antelope Big Sky Ranch LLC MBR Tariff to be effective 5/21/2016.

Filed Date: 8/31/16.

Accession Number: 20160831-5158.

Comments Due: 5 p.m. ET 9/21/16.

Docket Numbers: ER16-2307-001.

Applicants: Vista Energy Marketing, L.P.

Description: Tariff Amendment: Amended Vista Energy MBR Filing to be effective 10/1/2016.

Filed Date: 8/31/16.

Accession Number: 20160831-5206.

Comments Due: 5 p.m. ET 9/21/16.

Docket Numbers: ER16-2411-001.

Applicants: Luning Energy Holdings LLC.

Description: Second Supplement to August 12, 2016 Luning Energy Holdings LLC tariff filing.

Filed Date: 8/30/16.

Accession Number: 20160830-5277.

Comments Due: 5 p.m. ET 9/20/16.

Docket Numbers: ER16-2412-001.

Applicants: Luning Energy LLC.

Description: Second Supplement to August 12, 2016 Luning Energy LLC tariff filing.

Filed Date: 8/30/16.

Accession Number: 20160830-5280.

Comments Due: 5 p.m. ET 9/20/16.

Docket Numbers: ER16-2512-000.

Applicants: Public Service Company of Colorado.

Description: § 205(d) Rate Filing: PSCo-WAPA-Carey SS BA Mtr Install Agrmt to be effective 10/31/2016.

Filed Date: 8/31/16.

Accession Number: 20160831-5063.

Comments Due: 5 p.m. ET 9/21/16.

Docket Numbers: ER16-2513-000.

Applicants: Southwest Power Pool, Inc.

Description: § 205(d) Rate Filing: 3246 Tenaska Power and Montana-Dakota Utilities Att AO to be effective 8/1/2016.

Filed Date: 8/31/16.

Accession Number: 20160831-5065.

Comments Due: 5 p.m. ET 9/21/16.

Docket Numbers: ER16-2514-000.

Applicants: Public Service Company of Colorado.

Description: § 205(d) Rate Filing: OATT Schedules 4 & 9 Revisions to be effective 12/1/2016.

Filed Date: 8/31/16.

Accession Number: 20160831-5139.

Comments Due: 5 p.m. ET 9/21/16.

Docket Numbers: ER16-2515-000.

Applicants: Black River Hydroelectric, LLC.

Description: § 205(d) Rate Filing: Notice of Succession and Order No. 816 Compliance Filing to be effective 9/1/2016.

Filed Date: 8/31/16.

Accession Number: 20160831-5157.

Comments Due: 5 p.m. ET 9/21/16.

Docket Numbers: ER16-2516-000.

Applicants: Arizona Public Service Company.

Description: § 205(d) Rate Filing: Rate Schedule No. 284—ANPP Delaney Interconnection Agreement to be effective 10/31/2016.

Filed Date: 8/31/16.

Accession Number: 20160831-5174.

Comments Due: 5 p.m. ET 9/21/16.

Docket Numbers: ER16-2517-000.

Applicants: Southern California Edison Company.

Description: § 205(d) Rate Filing: Letter Agreement ACES Project to be effective 9/1/2016.

Filed Date: 8/31/16.

Accession Number: 20160831-5201.

Comments Due: 5 p.m. ET 9/21/16.

Docket Numbers: ER16-2518-000.

Applicants: PJM Interconnection, L.L.C.

Description: § 205(d) Rate Filing: OATT Revisions re: Earlier Queue Submittal to be effective 10/31/2016.

Filed Date: 8/31/16.

Accession Number: 20160831-5256.

Comments Due: 5 p.m. ET 9/21/16.

Docket Numbers: ER16-2519-000.

Applicants: Midcontinent Independent System Operator, Inc.

Description: § 205(d) Rate Filing: 2016-08-31—Posting of Day-Ahead Market Ex Post Prices to be effective 9/1/2016.

Filed Date: 8/31/16.

Accession Number: 20160831-5270.

Comments Due: 5 p.m. ET 9/21/16.

Docket Numbers: ER16-2520-000.

Applicants: Grand View PV Solar Two LLC.

Description: Baseline eTariff Filing: Grand View Market-Based Rate Application to be effective 10/3/2016.

Filed Date: 8/31/16.

Accession Number: 20160831-5307.

Comments Due: 5 p.m. ET 9/21/16.

Docket Numbers: ER16-2521-000.

Applicants: Midcontinent Independent System Operator, Inc., Entergy Services, Inc.

Description: § 205(d) Rate Filing: 2016-08-31—SA 2937 Tennessee Valley-NRG-Entergy MS C&P Agreement to be effective 8/24/2016.

Filed Date: 8/31/16.

Accession Number: 20160831-5315.

Comments Due: 5 p.m. ET 9/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2016.
Nathaniel J. Davis, Sr.,
Deputy Secretary.

[FR Doc. 2016-21442 Filed 9-6-16; 8:45 am]

BILLING CODE 6717-01-P